DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in the Cities of Seattle, Shoreline, Mountlake Terrace, and Lynnwood, WA; New Orleans, LA; Tacoma, WA; and Fort Lauderdale, FL. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of FTA actions announced herein for the listed public transportation projects will be barred unless the claim is filed on or before January 25, 2016.

FOR FURTHER INFORMATION CONTACT: Nancy-Ellen Zusman, Assistant Chief Counsel, Office of Chief Counsel, (312) 353-2577 or Terence Plaskon, Environmental Protection Specialist, Office of Environmental Programs, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA administrative record for the projects. Interested parties may contact either the project sponsor or the relevant FTA Regional Office for more information on each project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: Lynnwood Link Extension, Cities of Seattle, Shoreline, Mountlake Terrace, and Lynnwood, WA. Project sponsor: Central Puget Sound Regional Transit Authority (Sound Transit). Project description: The proposed project would extend the Sound Transit Link light rail system from Northgate in Seattle north into Shoreline, Mountlake Terrace, and Lynnwood in Snohomish County. The 8.5-mile project corridor would generally follow Interstate 5. Project components include traction power substations along the project alignment, new noise walls and relocation of existing noise walls, relocation of underground and overhead utilities, crossover tracks, stormwater management facilities, park-and-ride facilities, and intersection, street, and sidewalk improvements. Final agency actions: Section 4(f) de minimis impact determination; Section 106 finding of no adverse effect; project-level air quality conformity; and Record of Decision, dated July 10, 2015. Supporting documentation: Final Environmental Impact Statement, dated April 3, 2015.

2. Project name and location: Cemeteries Transit Center Project, New Orleans, LA. Project sponsor: Regional Transit Authority. Project description: The proposed project would extend the Canal Streetcar Line from its present terminus at the end of Canal Street to the existing Cemeteries Transit Center located on Canal Boulevard. In addition, the project would move the existing Canal Streetcar Cemeteries stop at the intersection of Canal Street and City Park Avenue to the Cemeteries Transit Center at Canal Boulevard north of City Park Avenue. Final agency actions: Section 4(f) de minimis impact determination; a Section 106 Memorandum of Agreement, dated June 16, 2015; and Finding of No Significant Impact, dated July 15, 2015. Supporting documentation: Environmental Assessment, dated February 2015.

3. Project name and location: Tacoma Link Expansion, Tacoma, WA. Project sponsor: Central Puget Sound Regional Transit Authority (Sound Transit). Project description: The proposed project would extend the existing Tacoma Link system an additional 2.4 miles, connecting Tacoma's Central Business District to the Stadium and Hilltop Business Districts and to Tacoma's “medical mile,” which includes major hospitals and medical centers. The project includes six new stations, the relocation of one station, and expanding the existing operations and maintenance facility (OMF) on a property adjacent to the existing OMF. Final agency actions: No use determination of Section 4(f) resources; a Section 106 Programmatic Agreement, dated June 15, 2015; project-level air quality conformity; and determination of categorical exclusion. Supporting documentation: Documented categorical exclusion pursuant to 23 CFR 771.118(d), dated June 2015.

4. Project name and location: Wave Modern Streetcar, Fort Lauderdale, FL. Project sponsor: South Florida Regional Transportation Authority. Project description: The proposed project is an approximately 2.8-mile modern streetcar system in Downtown Fort Lauderdale that will provide bi-directional service from S 17th Street and S Andrews Avenue to NE 6th Street and NE 3rd Avenue, primarily using Andrews Avenue, Bricknell Avenue, and E 3rd Avenue for north/south movement. The FTA issued a Finding of No Significant Impact (FONSI) for the project on September 10, 2012. Since issuance of the FONSI, the project sponsor proposed minor changes to the project, including a new location for the vehicle maintenance and storage facility, minor refinements to proposed station locations, minor refinements to the alignment along SE 6th Street and SE 7th Street, and an alternative end-of-line treatment at the northern terminus known as Flagler Loop. FTA prepared a Supplemental Environmental Assessment (EA) for these design modifications. This notice only applies to the discrete actions taken by FTA at this time. Nothing in this notice affects FTA's previous decisions, or notice, for this project. Final agency actions: No use determination of Section 4(f) resources and Amended FONSI, dated June 10, 2015. Supporting documentation: Supplemental EA, dated March 27, 2015.

Dated: August 21, 2015.
Lucy Garliauskas,
Associate Administrator Planning and Environment.

[FR Doc. 2015-21285 Filed 8-27-15; 8:45 am]

BILLING CODE P